NUCLEAR REGULATORY COMMISSION

[Docket No. 52-016-COL; ASLBP No. 09-874-02-COL-BD01]

Calvert Cliffs 3 Nuclear Project, LLC, and Unistar Nuclear Operating Services, LLC; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Calvert Cliffs 3 Nuclear Project, LLC, and UniStar Nuclear Operating Services, LLC

(Calvert Cliffs Nuclear Power Plant Unit 3)

This proceeding concerns a Petition to Intervene from the Nuclear Information and Resource Service (NIRS), Beyond Nuclear, and the Public Citizen Energy Program and Maryland Public Interest Research Group, which was submitted in response to a September 26, 2008 Notice of Hearing and Opportunity to Petition for Leave to Intervene on a Combined License for the Calvert Cliffs Nuclear Power Plant Unit 3 (73 FR 55,876). The Petition to Intervene challenges the application filed by Calvert Cliffs 3 Nuclear Project, LLC and UniStar Nuclear Operating Services, LLC pursuant to Subpart C of 10 CFR part 52 for a combined license for Calvert Cliffs Nuclear Power Plant Unit 3, which would be located in Calvert County, Maryland. The State of Maryland also submitted a request to participate in the proceeding as an interested State.

The Board is comprised of the following administrative judges:

Ronald M. Spritzer, Chairman, Atomic Safety and Licensing Board Panel, U.S. Nuclear Regulatory Commission, Washington, DC 20555-0001;

Gary S. Arnold, Atomic Safety and Licensing Board Panel, U.S. Nuclear Regulatory Commission, Washington, DC 20555-0001;

William W. Sager, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 2nd day of December 2008.
E. Roy Hawkens,
Chief Administrative Judge, Atomic Safety and Licensing Board Panel.

[FR Doc. E8-28950 Filed 12-5-08; 8:45 am]

BILLING CODE 7590-01-P